ENVIRONMENTAL PROTECTION AGENCY

[OPP-2005-0144; FRL-7723-9]

Notice of Receipt of Requests to Voluntarily Cancel Certain Pesticide Registrations

AGENCY: Environmental Protection Agency (EPA).

ACTION: Notice.

SUMMARY: In accordance with section 6(f)(1) of the Federal Insecticide, Fungicide, and Rodenticide Act (FIFRA), as amended, EPA is issuing a notice of receipt of an irrevocable request by a registrant to voluntarily cancel a certain pesticide registration.

DATES: EPA intends to issue a cancellation order effective no earlier than October 31, 2005, for EPA Registration Number 2596-148. This request for cancellation is irrevocable. Therefore, the Agency will not consider a request for withdrawal.

FOR FURTHER INFORMATION CONTACT: Ann Sibold, Registration Division (7505C), Office of Pesticide Programs, Environmental Protection Agency, 1200 Pennsylvania Ave., NW., Washington, DC 20460-0001; telephone number: (703) 305-6502; e-mail address: sibold.ann@epa.gov.

SUPPLEMENTARY INFORMATION:

I. General Information

A. Does this Action Apply to Me?

This action is directed to the public in general. Although this action may be of particular interest to persons who produce or use pesticides, the Agency has not attempted to describe all the specific entities that may be affected by this action. If you have any questions regarding the information in this notice, consult the person listed under FOR FURTHER INFORMATION CONTACT.

B. How Can I Get Copies of this Document and Other Related Information?

1. Docket. EPA has established an official public docket for this action under docket identification (ID) number OPP-2005-0144. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1801 S. Bell St., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Although not all docket materials may be available electronically, you may still access any of the publicly available docket materials through the docket facility identified in Unit I.B.1. Once in the system, select “search,” then key in the appropriate docket ID number.

II. What Action is the Agency Taking?

This notice announces receipt by the Agency of applications from a registrant to cancel one pesticide product registered under section 3 of FIFRA. This registration is listed in Table 1, of this unit:

Table 1.—Registration with Pending Request for Cancellation
Registration no. | Product name | Chemical name
2596-148 | Ref 117 | Phenothrin, (s)-methoprene

This request for cancellation is irrevocable and no request for withdrawal will be considered. EPA intends to issue a cancellation order effective no earlier than October 31, 2005.

Table 2, of this unit includes the name and address of record for the registrant of the product listed in Table 1, of this unit.

Table 2.—Registrant Requesting Voluntary Cancellation
EPA company no. | Company name and address
The Hartz Mountain Corporation | 400 Plaza Drive, Secaucus, NJ 07094-3688

III. What is the Agency's Authority for Taking this Action?

Section 6(f)(1) of FIFRA provides that a registrant of a pesticide product may at any time request that any of its pesticide registrations be canceled. FIFRA further provides that, before acting on the request, EPA must publish a notice of receipt of any such request in the Federal Register and provide for a 30-day period in which the public may comment. Thereafter, the Administrator may approve such a request.

IV. Procedures for Withdrawal of Request

This request for cancellation is irrevocable. Therefore, the Agency will not consider a request for withdrawal.

V. Provisions for Disposition of Existing Stocks

The effective date of cancellation will be stated in the cancellation order and will be no earlier than October 31, 2005. The orders effecting these requested cancellations will generally permit a registrant to sell or distribute existing stocks as follows: Products in the United States which have been packaged, labeled, and released for shipment prior to the effective date of the cancellation may be sold or distributed by Hartz from its facilities until December 31, 2005, and may be sold or distributed by persons other than Hartz until March 31, 2006. After this date, products may not be distributed unless for the purposes of proper disposal or export.

The Agency has provided restrictions on existing stocks because the Agency has identified potential risk concerns associated with this registration.

List of Subjects

Environmental protection, Pesticides and pests.

Dated: July 1, 2005.
Lois Rossi,
Director, Registration Division, Office of Pesticide Programs.

[FR Doc. 05-13976 Filed 7-14-05; 8:45 am]

BILLING CODE 6560-50-S